DEPARTMENT OF LABOR

Employment and Training Administration

[TA-W-82,137]

Naugatuck Valley Surgical Center, Department of Saint Mary's Hospital, Waterbury, Connecticut; Notice of Negative Determination on Reconsideration

On January 25, 2013, the Department of Labor issued an Affirmative Determination Regarding Application for Reconsideration applicable to workers and former workers of Naugatuck Valley Surgical Center, a Department of Saint Mary's Hospital, Waterbury, Connecticut (subject firm). The Department's notice of affirmative determination was published in the Federal Register on February 12, 2013 (78 FR 9940). The subject workers supply medical transcription services.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on the Department's findings of no shift in the supply of medical transcription services (or like or directly competitive services) to a foreign country, no acquisition from a foreign country the supply of medical transcription services (or like or directly competitive services), and no subject firm or customer imports of medical transcription services (or like or directly competitive services). The initial investigation also determined that the subject firm is not a supplier or downstream supplier to a firm that employed a worker group eligible to apply for Trade Adjustment Assistance based on a shift of services or increased imports of like or directly competitive services, and that the subject firm was not identified by name by the International Trade Commission, as required by Section 222(e) of the Trade Act of 1974, as amended, 19 U.S.C. 22272(e).

In the request for reconsideration, the state workforce office alleged that a specific firm was used by the subject firm to outsource services that were completed offshore.

Additional information obtained by the Department during the reconsideration investigation confirmed that the subject firm did not use any firm to outsource services and provided substantial evidence that established that outside firms that supply services like or directly competitive with those supplied by the workers at the subject firm must be completed in the United States.

After careful review of previously-submitted information and information obtained during the reconsideration investigation, the Department determines that 29 CFR 90.18(c) has not been met.

Conclusion

After careful review, I determine that the requirements of Section 222 of the Act, 19 U.S.C. 2272, have not been met and, therefore, deny the petition for group eligibility of Naugatuck Valley Surgical Center, a Department of Saint Mary's Hospital, Waterbury, Connecticut, to apply for adjustment assistance, in accordance with Section 223 of the Act, 19 U.S.C. 2273.

Signed in Washington, DC, on this 25th day of February, 2013.
Del Min Amy Chen,
Certifying Officer, Office of Trade Adjustment Assistance.

[FR Doc. 2013-05457 Filed 3-7-13; 8:45 am]

BILLING CODE 4510-FN-P